DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995:

Proposed Project: The National Health Service Corps Loan Repayment Program (OMB No. 0915-0127)—Extension

The National Health Service Corps (NHSC) Loan Repayment Program (LRP) was established to assure an adequate supply of trained primary care health care professionals to provide services in the neediest Health Professional Shortage Areas (HPSAs) of the United States. Under this program, the Department of Health and Human Services agrees to repay the educational loans of the primary care health professionals. In return, the health professionals agree to serve for a specified period of time in a federally designated HPSA approved by the Secretary for LRP participants. The NHSC LRP forms collect information that is needed for selecting participants and repaying qualifying loans for education. The LRP forms include the following: The NHSC LRP Application, the Loan Information and Verification form, the Employment Verification and Community Site Information form, the Payment Information Form, the Authorization to Release Information form and the Self-Certification Form. Once health professionals complete NHSC service basic contact information such as name, phone number, e-mail address, State (of residence and/or employment), discipline and specialty will be collected and maintained in a database to enable HRSA to communicate with NHSC alumni.

The annual estimate of burden is as follows:

Instrument | Number of respondents | Responses per respondent | Total responses | Hours per response | Total burden hours
NHSC LRP Application | 5,175 | 1 | 5,175 | .30 | 1,553
Payment Information Form | 5,175 | 1 | 5,175 | .20 | 1,035
Employment Verification and Community Site Information Form | 5,175 | 1 | 5,175 | .75 | 3,881
Loan Information and Verification Form | 5,175 | 3 | 15,525 | .30 | 4,658
Authorization to Release Information | 5,175 | 1 | 5,175 | .10 | 518
Self-Certification Form | 5,175 | 1 | 5,175 | .10 | 518
NHSC Alumni Database | 5,000 | 1 | 5,000 | .20 | 1,000
Total |  |  | 46,400 |  | 13,163

Written comments and recommendations concerning the proposed information collection should be sent within 30 days of this notice to the OMB desk officer for HRSA, either by e-mail to OIRA_submission@omb.eop.gov or by fax to 202-395-6974. Please direct all correspondence to the “attention of the OMB desk officer for HRSA.”

Dated: August 16, 2010.
Sahira Rafiullah,
Director, Division of Policy and Information Coordination.

[FR Doc. 2010-20763 Filed 8-20-10; 8:45 am]

BILLING CODE 4165-15-P